DEPARTMENT OF TRANSPORTATION

Federal Railroad Administration

[Docket Number FRA-2016-0110]

Petition for Waiver of Compliance

In accordance with part 211 of Title 49 Code of Federal Regulations (CFR), this document provides the public notice that by a document dated November 8, 2016, Nevada Northern Railway Foundation d.b.a. Nevada Northern Railway Museum (NN) has petitioned the Federal Railroad Administration (FRA) for a waiver of compliance from certain provisions of the Federal railroad safety regulations contained at 49 CFR part 215. FRA assigned the petition Docket Number FRA-2016-0110.

Specifically, NN requests waiver from the requirements of 49 CFR 215.303, Stenciling of restricted cars, and § 224.101, Reflectorization of Rolling Stock, for five freight cars. These five freight cars are one caboose (car number NN 3) and four box cars (car numbers NN 2021, NN 1023, NN 1024, and NN 1025).

NN states in its petition that these cars are used in tourist, historic, and/or excursion operations. The cars always remain on NN track. NN is a non-insular tourist railroad that is not connected to the general system. The purpose of this waiver petition is to maintain the historic integrity of this railroad, which has been recognized by the Secretary of the Interior as a national Historic Landmark.

NN further states that the subject cars will not carry freight but rather will be photographed by photographers from around the world. The cars will be operated at no more than 25 mph. The cars would be operated over 30 miles of track. Each car will be inspected to ensure safe operation of the car. These cars will not and cannot leave NN property.

As information, NN concurrently requests to continue in service these 5 cars in accordance with 49 CFR 215.203(c), as they are all over 50 years of age, measured from the date of original construction.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 10, 2017 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-01504 Filed 1-23-17; 8:45 am]

BILLING CODE 4910-06-P